DEPARTMENT OF AGRICULTURE

Submission for OMB Review; Comment Request

September 14, 2006.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

National Appeals Division

Title: National Appeals Division Customer Service Survey.

OMB Control Number: 0503-0007.

Summary of Collection: The Secretary of Agriculture established the National Appeals Division (NAD) on October 20, 1994, by Secretary's Memorandum 1010-1, pursuant to the Federal Crop Insurance Reform and Department of Agriculture Reorganization Act of 1994. The Act consolidated the appellate functions and staff of several USDA Agencies and provided for independent hearings and reviews of adverse decisions of Agencies within USDA. Hearing Officers conduct evidentiary hearings on adverse decisions or, when the appellant requests they review the Agency's record of the adverse decision without a hearing. Although NAD maintains a database to track appeal requests, the database contains only information necessary to process the appeal request, such as the name, address, filing results etc. NAD wants to update its information that is currently used to measure the efficiency and level of satisfaction with the USDA appeal process and gather data on the public's awareness of its services. NAD will collect information using a survey.

Need and Use of the Information: NAD will collect information to determine the extent of the public's awareness of NAD's purpose, mission, and services. Also, information from the survey will be used to provide a snapshot of the quality of NAD's services. The collected information from the surveys will be used to alter current or establish new training for Hearing and Appeals Officers.

Description of Respondents: Farms; Individuals or households; Not-for-profit institutions; Business or other for-profit; State, Local or Tribal Government.

Number of Respondents: 2,000.

Frequency of Responses: Reporting: Annually.

Total Burden Hours: 660.

Ruth Brown,
Departmental Information Collection Clearance Officer.

[FR Doc. E6-15571 Filed 9-19-06; 8:45 am]

BILLING CODE 3410-WY-P